DEPARTMENT OF ENERGY

Federal Energy Regulatory Commission

[Docket No. RP96-312-033]

Tennessee Gas Pipeline Company; Notice of Negotiated Rate Filing

October 25, 2000.

Take notice that on October 19, 2000, Tennessee Gas Pipeline Company (Tennessee), tendered for filing and approval two Gas Transportation Agreements between Tennessee and Dynegy Energy Marketing and Trade (Dynegy) pursuant to Tennessee's Rate Schedule FT-A (FT-A Service Agreements) and a copy of an October 18, 2000 Firm Transportation Negotiated Rate Agreement entered into between Tennessee and Dynegy (Negotiated Rate Agreement). The filed FT-A Service Agreements and the Negotiated Agreement reflects a negotiated rate arrangement between Tennessee and Dynegy to be effective November 1, 2000 through October 31, 2001.

Any person desiring to be heard or to protest said filing should file a motion to intervene or a protest with the Federal Energy Regulatory Commission, 888 First Street, NE., Washington, DC 20426, in accordance with Sections 385.214 or 385.211 of the Commission's Rules and Regulations. All such motions or protests must be filed in accordance by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27853 Filed 10-30-00; 8:45 am]

BILLING CODE 6717-01-M